DEPARTMENT OF STATE

[Public Notice 3854]

Bureau of Political-Military Affairs; Export of Non-lethal Defense Articles to Indonesia

AGENCY: Department of State.

ACTION: Notice.

SUMMARY: Notice is hereby given that requests for export and retransfer of non-lethal defense articles and spare parts to Indonesia pursuant to section 38 of the Arms Export Control Act will be considered on a case-by-case basis.

EFFECTIVE DATE: September 19, 2001.

FOR FURTHER INFORMATION CONTACT: Peter J. Berry, Chief, Arms Licensing Division, Office of Defense Trade Controls, Bureau of Political-Military Affairs, Department of State (202) 663-2700.

SUPPLEMENTARY INFORMATION: On October 14, 1999, a Federal Register notice was published (64 FR 55805) that suspended all licenses and approvals to export or otherwise transfer defense articles and defense services to Indonesia, except for certain exports related to commercial communication satellites and Y2K compliance activities that were not for the Indonesian military. The October 14, 1999 Federal Register notice set forth a policy of denial for new export requests except those that met the exception.

A Federal Register notice was published on January 25, 2001 (66 FR 7836) that permitted review, on a case-by-case basis, of requests for the export of C-130 spare parts to Indonesia, including for the Government of Indonesia. On March 22, 2001, a Federal Register notice was published (66 FR 16085) that expanded the review, on a case-by-case basis, of defense articles/defense services exported to Indonesia for ultimate end-use by a third-country.

This Notice expands categories of defense articles/defense services eligible for consideration for export/transfer to Indonesia, on a case-by-case basis, to include: (a) Non-lethal defense articles and spare parts; and (b) non-lethal, safety-of-use spare parts for lethal end-items. An example of safety-of-use items would be cartridge actuated devices, propellant actuated devices and technical manuals for military aircraft for purposes of enhancing the safety of the aircraft crew. For non-lethal defense end-items, no distinction will be made between Indonesia's existing and new inventory.

For the purposes of this policy, “nonlethal defense articles” means an article that is not a weapon, ammunition, or other equipment or material that is designed to inflict serious bodily harm or death (see, e.g. 10 U.S.C. 2557).

Dated: November 30, 2001.
Lincoln P. Bloomfield, Jr.,
Assistant Secretary, Bureau of Political-Military Affairs, Department of State.

[FR Doc. 01-31170 Filed 12-17-01; 8:45 am]

BILLING CODE 4710-25-P